DEPARTMENT OF ENERGY

Federal Energy Regulatory Commission

[Docket Nos. EG04-1-000, et al.]

Colorado Wind Ventures, LLC, et al.; Electric Rate and Corporate Filings

October 8, 2003.

The following filings have been made with the Commission. The filings are listed in ascending order within each docket classification.

1. Colorado Wind Ventures, LLC

[Docket No. EG04-1-000]

Take notice that on October 1, 2003, Colorado Wind Ventures, LLC (Colorado Wind) filed with the Commission an application for determination of exempt wholesale generator status pursuant to 18 CFR 365 of the Commission's regulations.

PPM Colorado Wind Ventures states that it is a wholly owned subsidiary of PPM Energy, Inc., an Oregon corporation (PPM). PPM is a wholly owned subsidiary of PacifiCorp Holdings, Inc., a Delaware corporation with general offices in Portland, Oregon (PHI). PHI is a wholly owned subsidiary of NA General Partnership, a Nevada general partnership (NAGP). NAGP's two partners are ScottishPower NA 1 Limited and ScottishPower NA 2 Limited. ScottishPower NA 1 Limited and ScottishPower NA 2 Limited are private limited companies incorporated in Scotland and are wholly owned subsidiaries of ScottishPower plc, a public limited corporation organized under the laws of Scotland.

Colorado Wind states that it is in the process of acquiring Colorado Green Holdings, LLC, a Delaware limited liability company (Colorado Green) and that Colorado Green will be engaged directly and exclusively in the business of owning all or part of one or more eligible facilities, and selling electric energy at wholesale. Colorado Wind further states that Colorado Green is developing an approximately 162-megawatt wind power generation facility to be located in Prowers County, Colorado (the Project) that will be an eligible facility pursuant to Section 32(a) of the Public Utility Holding Act of 1935, and as such, will be engaged indirectly, through one or more affiliates, exclusively in the business of owning and/or operating one or more eligible facilities and selling at wholesale at market-based rates electric energy from the Project.

Colorado Wind states that it has served a copy of the filing on the Public Utilities Commission of Colorado, the California Public Utilities Commission, the Oregon Public Utility Commission, the Washington Utilities and Transportation Commission, the Utah Public Service Commission, the Idaho Public Utilities Commission, and the Wyoming Public Service Commission as “affected state commissions” under 18 CFR 365.2(b)(3), and the Securities and Exchange Commission.

Comment Date: October 29, 2003.

2. Northeast Utilities Service Company

[Docket No. EL03-28-001]

Take notice that on September 29, 2003, Northeast Utilities Service Company, on behalf of itself and The Connecticut Light and Power Company (CL&P), and Select Energy, Inc., tendered for filing proposed changes to the November 30, 1994 System Power Sales Agreement by and between CL&P, the Connecticut Municipal Electric Energy Cooperative and the Town of Wallingford, Connecticut, Department of Public Utilities, Electric Division. This filing is made in compliance with the Commission's September 12, 2003 Order in Docket No. EL03-28-000.

Comment Date: October 28, 2003.

3. PJM Interconnection, L.L.C.

[Docket No. EL03-236-000]

Take notice that on September 30, 2003, PJM Interconnection, L.L.C. (PJM) pursuant to Section 206 of the Federal Power Act and in compliance with the Commission's directives in Reliant Energy Mid-Atlantic Power Holdings, LLC v. PJM Interconnection L.L.C., 104 FERC ¶ 61,040 (2003), submitted amendments to the PJM Open Access Transmission Tariff and the Amended and Restated Operating Agreement of PJM Interconnection L.L.C., regarding mitigation of local market power.

PJM states that copies of this filing have been served on all PJM members, each entity listed on the official service list in Docket No. EL03-116, and each state electric utility regulatory commission in the PJM region.

Comment Date: October 30, 2003.

4. Nevada Power Company and Sierra Pacific Power Company v. Enron Power Marketing Inc.

[Docket No. EL04-01-000]

Take notice that on October 6, 2003, the Nevada Power Company (Nevada Power) and Sierra Pacific Power Company (Sierra Pacific) (the Nevada Companies), tendered for filing a “Complaint Requesting Fact Track Processing And Emergency Request For Order Preserving Jurisdiction” against Enron Power Marketing Inc. (EPMI) or (Enron). The Complaint proceedings have been docketed. The Nevada Companies ask the Commission to: (1) Rule that the Nevada Companies are not required to make any Termination Payments; (2) determine that it is neither equitable nor in the public interest for the Nevada Companies to be required to make termination payments even if Enron was within its rights to terminate; (3) issue an immediate order preserving the status quo by prohibiting Enron from enforcing the tariff provisions relating to termination until such time as the Commission determines the merits of the matters raised in the complaint; and (4) set the matter for expedited hearing under the Commission's fast track process.

The Nevada Companies ask that the date for answers, interventions, and comments be shortened as the Commission deems appropriate so as to allow the Commission to issue an interim order as of October 17, 2003.

The Nevada Companies state that copies of this Complaint were served, simultaneous with filing with the Commission, on Enron.

Comment Date: October 15, 2003.

5. Sierra Pacific Energy, LP

[Docket No. ER04-7-000]

Take notice that on October 1, 2003, Sierra Pacific Energy, LP (SPE LP), filed with the Commission a Notice of Succession pursuant to Sections 35.16 and 131.51 of the Commission's Regulations concerning its assumption of Sierra Pacific Energy, LLC's Market-Based Rate Tariff. SPE LC simultaneously submitted a tariff amendment removing references to authority to engage in ancillary services sales outside the CAISO markets.

Comment Date: October 22, 2003.

6. NRG Energy, Inc.

[Docket No. ES03-59-001]

Take notice that on October 7, 2003, NRG Energy, Inc. submitted a filing in response to a deficiency letter issued on October 2, 2003, by the Director of the Division of Tariffs and Market Development-Central, in the above-referenced docket.

Comment Date: October 17, 2003.

7. Mid-Atlantic Energy Company

[Docket No. ES03-60-000]

Take notice that on September 30, 2003, MidAmerican Energy Company (MidAmerican) submitted an application pursuant to section 204 of the Federal Power Act seeking authorization to issue and sell up to $455 million principal amount of bonds, notes, debentures, guarantees or other evidence of long-term indebtedness.

MidAmerican also requests a waiver from the Commission's competitive bidding and negotiated placement requirements at 18 CFR 34.2.

Comment Date: October 27, 2003.

8. ISO New England, Inc.

[Docket No. ER04-23-000]

Take notice that on October 2, 2003, Devon Power LLC (Devon) tendered for filing an Amended Reliability Agreement between ISO New England, Inc., (ISO-NE) and Devon to become effective October 3, 2003.

Devon states that copies have been provided to ISO-NE, the affected state regulatory authorities and to all parties in Docket No. ER02-2463.

Comment Date: October 16, 2003.

9. William H. Bruett, Jr.

[Docket No. ID-2632-001]

Take notice that on September 15, 2003, William H. Bruett, Jr. submitted to the Commission an Abbreviated Application for Authorization to Hold Interlocking Positions pursuant to section 305(b) of the Federal Power Act and part 45 of the Commission(s Regulations.

Comment Date: October 17, 2003.

10. James S. Pignatelli, Michael J. DeConcini, Vincent Nitido, Jr., Kevin P. Larson, Karen G. Kissinger, Catherine A. Nichols, Linda H. Kennedy, and Gail K. Boswell

[Docket Nos. ID-3938-000, ID-3939-000, ID-3940-000, ID-3941-000, ID-3942-000, ID-3943-000, ID-3944-000, and ID-3945-000]

Take notice that, on September 9, 2003, the persons identified in the above-caption filed an informational report pursuant to the provisions of 18 CFR 45.9. According to the filing, these persons qualify for automatic authorization to hold interlocking positions pursuant to the provisions of section 45.9.

Comment Date: October 17, 2003.

Standard Pargraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00085 Filed 10-21-03; 8:45 am]

BILLING CODE 6717-01-P